NUCLEAR REGULATORY COMMISSION

[NRC-2013-0255]

Appointments to Performance Review Boards for Senior Executive Service

AGENCY: Nuclear Regulatory Commission.

ACTION: Appointment to Performance Review Boards for Senior Executive Service.

SUMMARY: The U.S. Nuclear Regulatory Commission (NRC) has announced the following appointments to the NRC Performance Review Boards.

The following individuals are appointed as members of the NRC Performance Review Board (PRB) responsible for making recommendations to the appointing and awarding authorities on performance appraisal ratings and performance awards for Senior Executives and Senior Level employees:

Mark A. Satorius, Executive Director for Operations

Margaret M. Doane, General Counsel

Darren B. Ash, Deputy Executive Director for Corporate Management, Office of the Executive Director for Operations

Cynthia A. Carpenter, Director, Office of Administration

James E. Dyer, Chief Financial Officer

Catherine Haney, Director, Office of Nuclear Material Safety and Safeguards

Michael R. Johnson, Deputy Executive Director for Reactor and Preparedness Programs, Office of the Executive Director for Operations

Victor M. McCree, Regional Administrator, Region II

Brian W. Sheron, Director, Office of Nuclear Regulatory Research

Glenn M. Tracy, Director, Office of New Reactors

Annette L. Vietti-Cook, Secretary of the Commission, Office of the Secretary

Michael F. Weber, Deputy Executive Director for Materials, Waste, Research, State, Tribal, and Compliance Programs, Office of the Executive Director for Operations

The following individuals will serve as members of the NRC PRB Panel that was established to review appraisals and make recommendations to the appointing and awarding authorities for NRC PRB members:

Eric J. Leeds, Director, Office of Nuclear Reactor Regulation

Marian L. Zobler, Deputy General Counsel

James T. Wiggins, Director, Office of Nuclear Security and Incident Response

All appointments are made pursuant to Section 4314 of Chapter 43 of Title 5 of the United States Code.

DATES: Effective Date: November 22, 2013.

FOR FURTHER INFORMATION CONTACT: Secretary, Executive Resources Board, U.S. Nuclear Regulatory Commission, Washington, DC 20555, (301) 287-0747.

Dated at Rockville, Maryland, this 14th day of November, 2013.
For the U.S. Nuclear Regulatory Commission.
Miriam L. Cohen,
Secretary, Executive Resources Board.

[FR Doc. 2013-28059 Filed 11-21-13; 8:45 am]

BILLING CODE 7590-01-P